DEPARTMENT OF THE INTERIOR

National Park Service

National Capital Region; Christmas Pageant of Peace

ACTION: Notice/request for comments—The Christmas Pageant of Peace.

SUMMARY: The National Park Service is seeking public comments and suggestions on the planning of the 2003 Christmas Pageant of Peace.

SUPPLEMENTARY INFORMATION: The National Park Service is seeking public comments and suggestions on the planning of the 2003 Christmas Pageant of Peace, which opens on December 4, 2003, on the Ellipse (President's Park), south of the White House. The meeting will be held at 1 p.m. on November 13, 2003, in Room 234 of the National Capital Region Headquarters Building, at 1100 Ohio Drive, SW., Washington, DC (East Potomac Park).

Persons who would like to comment at the meeting should notify the National Park Service by November 10, 2003, by calling the White House Visitor Center weekdays between 9 a.m., and 4 p.m., at (202) 208-1631. Written comments may be sent to the Park Manager, White House Visitor Center 1100 Ohio Drive, SW., Washington, DC 20242, and will be accepted until November 10, 2003.

DATES: The meeting will be held on November 13, 2003. Written comments will be accepted until November 10, 2003.

ADDRESSES: The meeting will be held at 1 p.m. on November 13, 2003, in room 234 of the National Capital Region Headquarters Building, at 1100 Ohio Drive, SW., Washington, DC (East Potomac Park). Written comments may be sent to the Park Manager, White House Visitor Center 1100 Ohio Drive, SW., Washington, DC 20242. Due to delays in mail delivery, it is recommended that comments be provided by telefax at 202-208-1643 or by e-mail at Rachel_frantum@nps.gov Comments may also be delivered by messenger to the White House Visitor Center at 1450 Pennsylvania Avenue, NW., in Washington, DC.

FOR FURTHER INFORMATION CONTACT: Rachel Frantum at the White House Visitor Center weekdays between 9 a.m., and 4 p.m., at (202) 208-1631.

Dated: October 9, 2003.
Mario Santo,
Deputy Director, White House Liaison, National Park Service.

[FR Doc. 03-27520 Filed 10-31-03; 8:45 am]

BILLING CODE 4310-71-M